DEPARTMENT OF THE INTERIOR

Fish and Wildlife Service

[FWS-R9-IA-2011-0087; 96300-1671-0000 FY12-R4]

Conference of the Parties to the Convention on International Trade in Endangered Species of Wild Fauna and Flora (CITES); Sixteenth Regular Meeting: Taxa Being Considered for Amendments to the CITES Appendices

AGENCY: Fish and Wildlife Service, Interior.

ACTION: Notice.

SUMMARY: The United States, as a Party to the Convention on International Trade in Endangered Species of Wild Fauna and Flora (CITES), may propose amendments to the CITES Appendices for consideration at meetings of the Conference of the Parties. The sixteenth regular meeting of the Conference of the Parties to CITES (CoP16) is tentatively scheduled to be held in Thailand, March 3-15, 2013. With this notice, we describe proposed amendments to the CITES Appendices (species proposals) that the United States might submit for consideration at CoP16 and invite your comments and information on these proposals.

DATES: We will consider written information and comments we receive by June 11, 2012.

ADDRESSES: You may submit comments pertaining to species proposals for consideration at CoP16 by one of the following methods:

Federal eRulemaking Portal: http://www.regulations.gov. Follow the instructions for submitting comments on Docket No. FWS-R9-IA-2011-0087.

U.S. mail or hand-delivery: Public Comments Processing, Attn: FWS-R9-IA-2011-0087; Division of Policy and Directives Management; U.S. Fish and Wildlife Service; 4401 N. Fairfax Drive, MS 2042-PDM; Arlington, VA 22203.

We will not consider comments sent by email or fax or to an address not listed in the ADDRESSES section. We will post all comments on http://www.regulations.gov. This generally means that we will post any personal information you provide us. If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive in response to this notice will be available for public inspection on http://www.regulations.gov, or by appointment between 8 a.m. and 4 p.m., Monday through Friday, except Federal holidays, at the U.S. Fish and Wildlife Service, Division of Scientific Authority, 4401 North Fairfax Drive, Room 110, Arlington, VA 22203, phone 703-358-1708.

FOR FURTHER INFORMATION CONTACT: Rosemarie Gnam Ph.D., Chief, Division of Scientific Authority, U.S. Fish and Wildlife Service, 4401 North Fairfax Drive, Room 110, Arlington, VA 22203; phone 703-358-1708, fax 703-358-2276, email: scientificauthority@fws.gov. If you use a telecommunications device for the deaf (TDD), call the Federal Information Relay Service (FIRS) at 800-877-8339.

SUPPLEMENTARY INFORMATION:

Background

The Convention on International Trade in Endangered Species of Wild Fauna and Flora (CITES or the Convention) is an international treaty designed to control and regulate international trade in certain animal and plant species that are now or potentially may be threatened with extinction, and are affected by trade. These species are included in Appendices to CITES, which are available on the CITES Secretariat's Web site at http://www.cites.org/eng/app/2011/E-Dec22.pdf. Currently, 175 countries, including the United States, are Parties to CITES. The Convention calls for meetings of the Conference of the Parties, held every 2 to 3 years, at which the Parties review its implementation, make provisions enabling the CITES Secretariat in Switzerland to carry out its functions, consider amendments to the lists of species in Appendices I and II, consider reports presented by the Secretariat, and make recommendations for the improved effectiveness of CITES. Any country that is a Party to CITES may propose amendments to Appendices I and II, as well as resolutions, decisions, and agenda items for consideration by all the Parties.

This is our third in a series of Federal Register notices that, together with an announced public meeting, provide you with an opportunity to participate in the development of the U.S. negotiating positions for the sixteenth regular meeting of the Conference of the Parties to CITES (CoP16), tentatively scheduled to be held in Thailand, March 3-15, 2013. We published our first CoP16-related Federal Register notice on June 14, 2011 (76 FR 34746), in which we requested information and recommendations on animal and plant species proposals for the United States to consider submitting for consideration at CoP16. You may obtain information on that Federal Register notice from the Division of Scientific Authority at the address provided in FOR FURTHER INFORMATION CONTACT section above. We published our second CoP16-related Federal Register notice on November 7, 2011 (76 FR 68778), in which we requested information and recommendations on resolutions, decisions, and agenda items that the United States might consider submitting for discussion at CoP16, and provided preliminary information on how to request approved observer status for nongovernmental organizations that wish to attend the meeting. Comments received on that notice may be viewed at http://www.regulations.gov at Docket No. FWS-R9-IA-2011-0087. You may obtain information on that Federal Register notice by contacting Robert R. Gabel, Chief, Division of Management Authority, U.S. Fish and Wildlife Service, 4401 N. Fairfax Drive, Room 212, Arlington, VA 22203; phone 703-358-2095; fax 703-358-2298. Our regulations governing this public process are found in title 50 of the Code of Federal Regulations (CFR) at § 23.87.

Recommendations for Species Proposals for the United States To Consider Submitting for CoP16

In our Federal Register notice of June 14, 2011 (76 FR 34746), we requested information and recommendations on potential species proposals for the United States to consider submitting for consideration at CoP16. We received recommendations from the following organizations for possible proposals involving 92 taxa (3 families, 13 genera, and 76 individual species) and 2 general groups (Asian freshwater turtles and tortoises and native Hawaiian sandalwood species): the American Herbal Products Association; Animal Welfare Institute; Bush Warriors; Center for Biological Diversity; International Fund for Animal Welfare; International Union for Conservation of Nature (IUCN) Tortoise and Freshwater Turtle Specialist Group; Oceana; Pew Environment Group; Shark Advocates International; Species Survival Network; United Plant Savers; Wild Equity Institute; Wildlife Conservation Society; and World Wildlife Fund. In addition, we received comments from individuals as follows: 49 on the white rhinoceros; 25,742 on North American turtles; and 2,879 on bluefin tuna.

We have undertaken initial assessments of the available trade and biological information on all of these taxa. Based on these assessments, we made provisional evaluations of whether to proceed with the development of proposals for species to be included in, removed from, or transferred between the CITES Appendices. We made these evaluations by considering the biological and trade information available on the species; the presence, absence, and effectiveness of other mechanisms that may preclude the need for species' inclusion in the CITES Appendices (e.g., range country actions or other international agreements); and availability of resources. Furthermore, our assignment of a taxon to one of these categories, which reflects the likelihood of our submitting a proposal, included consideration of the following factors, which reflect the U.S. approach for CoP16 discussed in our June 14, 2011, Federal Register notice:

(1) Does the proposed action address a serious wildlife or plant trade issue that the United States is experiencing as a range country for species in trade?

(2) Does the proposed action address a serious wildlife or plant trade issue for species not native to the United States?

(3) Does the proposed action provide additional conservation benefit for a species already covered by another international agreement?

In sections A, B, and C below, we have listed the current status of each species proposal recommended by the public, as well as species proposals we have been developing on our own. Please note that we have only provided here a list of taxa and the proposed action. We have posted an extended version of this notice on our Web site at http://www.fws.gov/international/newspubs/fedregnot.html, with text describing in more detail each proposed action and explaining the rationale for the tentative U.S. position on each possible proposal. Copies of the extended version of the notice are also available from the Division of Scientific Authority at the above address.

We welcome your comments, especially if you are able to provide any additional biological or trade information on these species. For each species, more detailed information is on file in the Division of Scientific Authority.

A. What species proposals is the United States likely to submit for consideration at CoP16?

The United States is likely to develop and submit proposal(s) for the following taxa.

Plants

1. Laguna Beach dudleya (Dudleya stolonifera) and Santa Barbara dudleya (D. traskiae)—Removal from Appendix II.

2. American ginseng (Panax quinquefolius)—Amendment of the Appendix II annotation.

B. On what species proposals is the United States still undecided, pending additional information and consultations?

The United States is still undecided on whether to submit proposals for CoP16 for the following taxa. In some cases, we have not completed our consultations with relevant range countries. In other cases, we expect meetings to occur in the immediate future, at which participants will generate important recommendations, trade analyses, or biological information on the taxon in question.

Plants

1. Hawaiian sandalwoods (Santalum spp.)—Inclusion in Appendix II.

Corals

2. Red and pink corals (Corallium spp. and Paracorallium spp.)—Inclusion in Appendix II.

Fishes

3. Longfin mako shark (Isurus paucus)—Inclusion in Appendix II.

4. Shortfin mako shark (Isurus oxyrinchus)—Inclusion in Appendix II.

5. Porbeagle shark (Lamna nasus)—Inclusion in Appendix II or Appendix I.

6. Scalloped hammerhead shark (Sphyrna lewini), great hammerhead shark (S. mokarran), and smooth hammerhead shark (S. zygaena)—Inclusion in Appendix II.

7. Oceanic whitetip shark (Carcharhinus longimanus)—Inclusion in Appendix II or Appendix I.

8. Bigeye thresher shark (Alopias superciliosus), common thresher shark (A. vulpinus), and pelagic thresher shark (A. pelagicus)—Inclusion in Appendix II.

9. Orange roughy (Hoplostethus atlanticus)—Inclusion in Appendix II.

10. American eel (Anguilla rostrata) and all other Anguilla species not previously included in the CITES Appendices—Inclusion in Appendix II.

Reptiles

11. Tokay gecko (Gekko gecko)—Inclusion in Appendix II.

12. Burmese starred tortoise (Geochelone platynota)—Transfer from Appendix II to Appendix I.

13. Crowned river turtle (Hardella thurjii)—Inclusion in Appendix II.

14. Burmese peacock softshell turtle (Nilssonia formosa)—Inclusion in Appendix II.

15. Roti Island snake-necked turtle (Chelodina mccordi)—Transfer from Appendix II to Appendix I.

16. Yellow-margined box turtle (Cuora flavomarginata)—Transfer from Appendix II to Appendix I.

17. McCord's box turtle (Cuora mccordi)—Transfer from Appendix II to Appendix I.

18. Chinese three-striped box turtle (Cuora trifasciata)—Transfer from Appendix II to Appendix I.

19. Big-headed turtle (Platysternon megacephalum)—Transfer from Appendix II to Appendix I.

20. Painted terrapin (Batagur borneoensis)—Transfer from Appendix II to Appendix I.

21. Burmese roofed turtle (Batagur trivittata)—Transfer from Appendix II to Appendix I.

22. Map turtles (Graptemys spp.)—Inclusion in Appendix II and three species in Appendix I.

23. Blanding's turtle (Emydoidea blandingii)—Inclusion in Appendix I or Appendix II.

24. Spotted turtle (Clemmys guttata)—Inclusion in Appendix I or Appendix II.

25. Alligator snapping turtle (Macrochelys temminckii)—Inclusion in Appendix II.

26. Diamondback terrapin (Malaclemys terrapin)—Inclusion in Appendix II.

Birds

27. Gyrfalcon (Falco rusticolus)—Transfer from Appendix I to Appendix II.

Mammals

28. Walrus (Odobenus rosmarus)—Inclusion in Appendix II or Appendix I.

29. Polar bear (Ursus maritimus)—Transfer from Appendix II to Appendix I.

C. What species proposals is the United States not likely to submit for consideration at CoP16, unless we receive significant additional information?

The United States does not intend to submit proposals for the following taxa unless we receive significant additional information indicating that a proposal is warranted. Information currently available for each of the taxa listed below does not support a defensible proposal.

Plants

1. Goldenseal (Hydrastis canadensis)—Removal from Appendix II.

Mollusks

2. Nautilids (Allonautilus spp. and Nautilus spp.)—Inclusion in Appendix II.

Spiders

3. Burrowing (Chilobrachys fimbriatus and C. hardwicki), large burrowing (Haploclastus kayi, Thrigmopoeus insignis, and T. truculentus), and parachute (Poecilotheria formosa, P. hanumavilasumica, P. metallica, P. miranda, P. nallamalaiensis, P. regalis, P. rufilata, P. striata, and P. tigrinawesseli) spiders—Inclusion in Appendix II.

Fishes

4. Gulper sharks (Centrophoridae)—Inclusion in Appendix II.

5. Devil and manta rays (Mobulidae)—Inclusion in Appendix II or in Appendix I.

6. Hammerhead sharks (Sphyrnidae) (see section B.6. above for consideration of scalloped, great, and smooth hammerhead sharks)—Inclusion in Appendix I or, if not warranted, in Appendix II.

7. Dusky shark (Carcharhinus obscurus)—Inclusion in Appendix II or Appendix I.

8. Sandbar shark (Carcharhinus plumbeus)—Appendix II or Appendix I.

9. Portuguese shark (Centroscymnus coelolepis)—Inclusion in Appendix II.

10. Spiny dogfish (Squalus acanthias)—Inclusion in Appendix II.

11. Roundnose grenadier (Coryphaenoides rupestris)—Inclusion in Appendix II.

12. Roughhead grenadier (Macrourus berglax)—Inclusion in Appendix II.

13. North Atlantic bluefin tuna (Thunnus thynnus)—Inclusion in Appendix I.

Reptiles

14. San Francisco garter snake (Thamnophis sirtalis tetrataenia)—Inclusion in Appendix I.

15. Bocourt's water snake (Enhydris boucourti) and puff-faced water snake (Homalopsis buccata)—Inclusion in Appendix III.

16. Other turtles not native to the United States (Inclusion in Appendix II or Appendix I or Transfer from Appendix II to Appendix I):

• Malayan softshell turtle (Dogania subplana),

• Indian star tortoise (Geochelone elegans),

• Ryukyu black-breasted leaf turtle (Geoemyda japonica),

• black-breasted hill turtle (Geoemyda spengleri),

• Sulawesi forest turtle (Leucocephalon yuwonoi),

• Burmese mountain tortoise (Manouria emys),

• impressed tortoise (Manouria impressa),

• Indian black turtle (Melanochelys trijuga),

• Indian eyed turtle (Morenia petersi),

• Leith's softshell turtle (Nilssonia (Aspideretes) leithii),

• Malaysian giant turtle (Orlitia borneensis),

• wattle-necked softshell turtle (Palea steindachneri),

• Cochin forest cane turtle (Vijayachelys silvatica),

• Cann's snake-necked turtle (Chelodina canni),

• Gunalen's snake-necked turtle (Chelodina gunaleni),

• eastern or common snake-necked turtle (Chelodinal ongicollis),

• New Guinea snake-necked turtle (Chelodina novaeguineae),

• narrow-breasted snake-necked turtle (Chelodina oblonga),

• Pritchard's snake-necked turtle (Chelodina pritchardi),

• Reimann's snake-necked turtle (Chelodina reimanni),

• Steindachner's snake-necked turtle (Chelodina steindachneri),

• yellow-headed box turtle (Cuora aurocapitata),

• Bourret's box turtle (Cuora bourreti),

• Ryukyu yellow-margined box turtle (Cuora evelynae),

• McCord's box turtle (Cuora mccordi),

• keeled box turtle (Cuora mouhotii),

• Pan's box turtle (Cuora pani),

• Southern Vietnamese box turtle (Cuora picturata),

• Yunnan box turtle (Cuora yunnanensis),

• Zhou's box turtle (Cuora zhoui),

• western black-bridged leaf turtle (Cyclemys atripons),

• Asian leaf turtle (Cyclemys dentate),

• enigmatic leaf turtle (Cyclemys enigmatica),

• Myanmar brown leaf turtle (Cyclemys fusca),

• Assam leaf turtle (Cyclemys gemeli),

• Southeast Asian leaf turtle (Cyclemys oldhamii),

• eastern black-bridged leaf turtle (Cyclemys pulchristriata),

• white-throated or southern snapping turtle (Elseya albagula),

• Southern New Guinea snapping turtle (Elseya branderhorsti),

• northern snapping turtle (Elseya dentata),

• Irwin's snapping turtle (Elseya irwini),

• Gulf or Riversleigh snapping turtle (Elseya lavarackorum),

• Bell's or western sawshelled turtle (Myuchelys bellii),

• Bellinger River sawshelled turtle (Myuchelys georgesi),

• common sawshelled turtle (Myuchelys latisternum),

• New Guinea snapping turtle (Myuchelys novaeguineae),

• Manning River sawshelled turtle (Myuchelys purvisi),

• Beal's eyed turtle (Sacalia bealei),

• Chinese false eyed turtle (Sacalia psuedocellata),

• four-eyed turtle (Sacalia quadriocellata),

• striped New Guinea softshell turtle (Pelochelys bibroni),

• Cantor's or Asian giant softshell turtle (Pelochelys cantorii),

• Northern New Guinea softshell turtle (Pelochelys signifera),

• red-crowned roofed turtle (Batagur kachuga),

• yellow-headed temple turtle (Heosemys annandalii),

• Arakan forest turtle (Heosemys depressa),

• Annam pond turtle (Mauremys annamensis),

• yellow pond turtle (Mauremys mutica),

• red-necked pond turtle (Mauremys nigricans),

• Philippine forest turtle (Siebenrockiella leytensis),

• Asian narrow-headed softshell turtle (Chitra chitra),

• Burmese narrow-headed softshell turtle (Chitra vandijki),

• Swinhoe's giant softshell turtle (Rafetus swinhoei),

• Central American River turtle (Dermatemys mawii),

• giant musk turtles (Staurotypus spp.),

• Dahl's toad-headed turtle (Mesoclemmys dahli),

• Hoge's side-necked turtle (Mesoclemmys hogei),

• Madagascar big-headed turtle (Erymnochelys madagascariensis),

• giant South American river turtle (Podocnemis expansa), and

• Magdalena river turtle (Podocnemis lewyana).

17. Flattened musk turtle (Sternotherus depressus)—Inclusion in Appendix I.

18. Softshell turtles (Apalone spp.)—Inclusion in Appendix II.

19. Common snapping turtle (Chelydra serpentina)—Inclusion in Appendix III.

Mammals

20. White rhinoceros (Ceratotherium simum)—Inclusion of the entire species in Appendix I.

21. Narwhal (Monodon monoceros)—Transfer from Appendix II to Appendix I.

22. Indian or thick-tailed pangolin (Manis crassicaudata), Philippine pangolin (M. culionensis), Sunda or Malayan pangolin (M. javanica), and Chinese pangolin (M. pentadactyla)—Transfer from Appendix II to Appendix I.

Future Actions

As stated above, the next regular meeting of the Conference of the Parties (CoP16) is tentatively scheduled to be held in Thailand, March 3-15, 2013. The United States must submit any proposals to amend Appendix I or II, or any draft resolutions, decisions, or agenda items for discussion at CoP16 to the CITES Secretariat 150 days (tentatively early October 2012) prior to the start of the meeting. In order to meet this deadline and to prepare for CoP16, we have developed a tentative U.S. schedule. Approximately 9 months prior to CoP16, we plan to publish a Federal Register notice announcing draft resolutions, draft decisions, and agenda items to be submitted by the United States at CoP16, and to solicit further information and comments on them. We will consider all available information and comments, including those received in writing during that comment period, as we decide which proposed resolutions, decisions, and agenda items warrant submission by the United States for consideration by the Parties. Approximately 4 months prior to CoP16, we will post on our Web site an announcement of the species proposals, draft resolutions, draft decisions, and agenda items submitted by the United States to the CITES Secretariat for consideration at CoP16.

Through a series of additional notices and Web site postings in advance of CoP16, we will inform you about preliminary negotiating positions on resolutions, decisions, and amendments to the Appendices proposed by other Parties for consideration at CoP16. We will also publish an announcement of a public meeting to be held approximately 3 months prior to CoP16; that meeting will enable us to receive public input on our positions regarding CoP16 issues. The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Author

The primary author of this notice is Mary Cogliano, Ph.D., Division of Scientific Authority, U.S. Fish and Wildlife Service.

Authority

The authority for this action is the Endangered Species Act of 1973, as amended (16 U.S.C. 1531 et seq.).

Dated: March 30, 2012.
Daniel M. Ashe,
Director.

[FR Doc. 2012-8665 Filed 4-10-12; 8:45 am]

BILLING CODE 4310-55-P